FEDERAL COMMUNICATIONS COMMISSION

47 CFR Part 73

[MB Docket No. 14-54; RM-11698; DA 14-1361]

Radio Broadcasting Services; Toquerville, Utah

AGENCY: Federal Communications Commission.

ACTION: Final rule.

SUMMARY: The Audio Division, at the request of JER Licenses, LLC, substitute alternative Channel 281C for vacant Channel 280C at Toquerville, Utah to accommodate the “hybrid” application that requests the downgrade of the new FM station from Channel 281C3 to Channel 280A at Peach Springs, Arizona. A staff engineering analysis confirms that Channel 281C can be allotted to Toquerville, Utah consistent with the minimum distance separation requirements of the Rules without a site restriction. The reference coordinates for Channel 281C at Toquerville are 37-15-12 NL and 113-17-00 WL. See Supplementary Info. supra.

DATES: Effective November 3, 2014.

ADDRESSES: Secretary, Federal Communications Commission, 445 12th Street SW., Washington, DC 20554.

FOR FURTHER INFORMATION CONTACT: Rolanda F. Smith, Media Bureau, (202) 418-2700.

SUPPLEMENTARY INFORMATION: This is a synopsis of the Report and Order, DA 14-1361, adopted September 18, 2014, and released September 19, 2014. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-800-378-3160 or via email www.BCPIWEB.com.

Our staff engineering analysis confirms that there is no line of sight and substantial terrain obstructions for Channel 246C at Toquerville, Utah at the proposed reference coordinates; and the restricted site substantially reduces the number of existing communications facilities for a Class C facility. We determine that alternative Channel 281C at Toquerville accommodates the Application for Channel 280A at Peach Springs, Arizona, and grant the Application, File No. BNPH-20120529ALI. This document does not contain information collection requirements subject to the Paperwork Reduction Act of 1995, Public Law 104-13. The Commission will send a copy of this Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Utah, is amended by removing Channel 280C at Toquerville, and by adding Channel 281C at Toquerville.

[FR Doc. 2014-23522 Filed 10-1-14; 8:45 am]

BILLING CODE 6712-01-P